FEDERAL COMMUNICATIONS COMMISSION

[DA 13-2025; WC Docket No. 05-337; IB Docket No. 13-230; WT Docket No. 13-225; WC; Docket Nos. 13-223, 13-228, 13-235, 13-237]

Revised Filing Deadlines Following Resumption of Normal Commission Operations

AGENCY: Federal Communications Commission.

ACTION: Notice; revised filing deadlines.

SUMMARY: The Commission is further extending certain filing deadlines for regulatory and enforcement filings (with the exception of Network Outage Reporting System (NORS) and specifically docketed proceedings ¹) because the public did not have access to electronic docket and other online Commission resources during the suspension of operations due to the government-wide lapse in funding.

¹ A separate Federal Register notice is being published for filing deadlines in pending rulemaking proceedings. The Wireless Telecommunications Bureau and Wireline Competition Bureau will release a separate Public Notice in the near future announcing new dates and deadlines applicable to Auction 902, AU Docket No. 13-53.

DATES:

• Filings (except NORS filings or otherwise specified filings) that were due between October 1 and October 6, 2013, will be due on October 22, 2013. Filings (except NORS filings or otherwise specified filings) that were due between October 7 and October 16, 2013 are due 16 calendar days after the original filing date.

• Filings (except NORS filings or otherwise specified filings) due to be filed between October 17 and November 4, 2013, are due November 4, 2013.

• Comments in WC Docket No. 05-337 are due by November 4, 2013; reply comments are due by November 19, 2013.

• Comments in IB Docket No. 13-230, are due October 25, 2013, and reply comments are due November 1, 2013.

• Reply comments WT Docket No. 13-225 are due October 28, 2013.

• Comments in WC Docket Nos. 13-223, 13-228, 13-235, 13-237, are due on October 22, 2013; reply comments are due October 29, 2013.

• Comments in all ULS applications and notifications filed in accordance with the Commission's rules that were originally due on October 1, 2013, through and including November 4, 2013, are due November 4, 2013.

FOR FURTHER INFORMATION CONTACT: Elizabeth Lyle, Assistant General Counsel, 202-380-2348.

SUPPLEMENTARY INFORMATION: As a result of the recent government-wide lapse in funding, the Commission suspended normal operations from October 1, 2013 through October 16, 2013, for a total of 16 days. Among other things, the Commission's filing window, mail room, and all electronic filing systems, with the exception of the Network Outage Reporting System (NORS), were unavailable from October 1, 2013, until October 17, 2013. In addition, many Commission resources normally accessible through the Commission's Web site, including access to electronic dockets, were inaccessible for the same period.

On October 1, 2013, the Commission issued a public notice stating that “any materials, with the exception of NORS filings, that otherwise would be required to be filed with the Commission (at its headquarters, Gettysburg, PA or U.S. Bank), during the suspension of operations or on the day of return to normal operations, will be due on the business day following the day of return to normal operations.” Upon reopening on October 17, 2013, the Commission suspended all Commission filing deadlines that occurred during the shutdown or that will occur on or before October 21, other than NORS filing deadlines, until further notice. This Public Notice supersedes the October 1 and October 17 Public Notices. In addition, Bureaus and Offices may by further Public Notice set additional filing deadlines different than those specified in this Public Notice for filings in specific proceedings or classes of proceedings.

Regulatory and Enforcement Filings in General. Because parties did not have access to electronic dockets and other online Commission resources during the suspension of operations, we have determined to further extend the filing deadline for regulatory and enforcement filings, with the exception of NORS filings and certain other specified filings, so as to provide filers with access to Commission resources for the period they would have had absent the suspension of Commission operations. Filings, with the exception of NORS filings and certain other specified filings, that were due between October 1 and October 6 will be due on October 22, 2013. Filings, with the exception of NORS filings and certain other specified filings, that were due between October 7 and October 16 will be due 16 days after the original filing date, an extension equivalent to the period of the Commission's closure. Thus, for example, a filing that would have been due on October 7, will be due on October 23, an extension of 16 days. To the extent the revised due dates for filings under this Public Notice fall on a weekend or other Commission holiday, they will be due on the next business day. Finally, any regulatory and enforcement filings that would otherwise be required to be filed between October 17 and November 4 with the exception of the NORS filings and other specified filings, will be due for filing on November 4, 2013 (which is the first business day following a 16-day period after the Commission's October 17 reopening).

To the extent the due dates for filings to which reply or responsive pleadings are allowed are extended by this Public Notice, the due dates for the reply or responsive pleadings are extended by the same number of days. Thus, for example, if comments were originally due on October 30 and reply comments due ten days later, comments would now be due on November 4 and reply comments on November 14.

2014 Modification of Average Schedule Company Universal Service High-Cost Loop Support Formula. In WC Docket No. 05-337, the comment dates set forth in DA 13-1870 are revised as follows: Comments are due by November 4, 2013, and reply comments are due by November 19, 2013.

Domestic Section 214 Transfer of Control Applications. On October 1, 2013, the Commission issued a Public Notice (DA 13-2020) for domestic section 214 transfer of control applications WC Docket Nos. 13-223, 13-228, 13-235, 13-237 stating that comments addressing the applications would be due on the next business day after the Commission re-opens. This Public Notice supersedes the October 1, 2013, section 214 Public Notice. Comments are due October 22, 2013. Reply comments for domestic section 214 transfer of control applications will be due on October 29, 2013.

DISH Network Corporation Petition for Waiver and Request for Extension of Time, WT Docket No. 13-225. The date for filing reply comments set forth in DA 13-1877 is revised to October 28, 2013.

Verizon Communications, Inc.; Petition for Declaratory Ruling under Section 310(b)(4) of the Communications Act, as Amended, IB Docket No. 13-230. The comments dates set forth in DA 1948 (rel. Sept. 20, 2013) are revised as follows: Comments due by October 25, 2013, and reply comments are due by November 1, 2013.

ULS Applications/Notifications. All ULS applications and notifications filed in accordance with the Commission's rules (e.g., sections 1.913, 1.946) that were originally due on October 1, 2013, through and including November 4, 2013, are now due on November 4, 2013. We note that ULS is currently available and encourage applicants and licensees to file any applications and notifications as soon as practicable. Please see http://www.fcc.gov/help/uls-instructions-revised-filing-deadlines for information about filing requirements for these applications and notifications.

Vanity Call Sign Requests. During the period that the Commission was closed, ULS was not available for Amateur Radio Service licensees to file an application to modify their license grants to show a vanity call sign. Ordinarily, vanity call sign applications are processed on a day-by-day basis, with a random selection procedure used to determine the processing order for applications filed on the same day. In order to accommodate the orderly resumption of business, however, vanity call sign applications filed via ULS between October 17 and October 22 will all be processed as if they were filed on October 22, 2013. In addition, any vanity call sign applications that were filed by mail between October 1 and October 22, 2013 also will be treated as if they were filed on October 22, 2013.

Petitions for Reconsideration. The Commission cannot waive statutory filing deadlines such as those associated with petitions for reconsideration. Nonetheless, because of the disruption and uncertainty associated with the suspension of Commission activities and the relaunch of Commission filing systems, we will not consider the Commission open for filing of documents with statutory deadlines until Tuesday, October 22, 2013.

STAs. Any STAs expiring between October 1, 2013 and October 22, 2013 are extended until November 4, 2013.

For these purposes, Section 1.4(j) of the Commission's rules, 47 CFR 1.4(j), otherwise requiring filings to be made on the first business day of resumed Commission operations, is hereby waived.

Federal Communications Commission.
Joel Kaufman,
Associate General Counsel.

[FR Doc. 2013-26256 Filed 11-1-13; 8:45 am]

BILLING CODE 6712-01-P